FEDERAL RESERVE SYSTEM

Agency Information Collection Activities: Announcement of Board Approval Under Delegated Authority and Submission to OMB

AGENCY: Board of Governors of the Federal Reserve System, Federal Reserve System.

SUMMARY: Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Division of Research and Statistics, Board of Governors of the Federal Reserve System, Washington, DC 20551 (202-452-3829). Telecommunications Device for the Deaf (TDD) users may contact (202-263-4869), Board of Governors of the Federal Reserve System, Washington, DC 20551.

OMB Desk Officer—Shagufta Ahmed—Office of Information and Regulatory Affairs, Office of Management and Budget, New Executive Office Building, Room 10235, 725 17th Street, NW., Washington, DC 20503.

Final approval under OMB delegated authority of the extension for three years, without revision, of the following report:

Report title: The Recordkeeping, Reporting and Disclosure Requirements in Connection with Regulation BB (Community Reinvestment Act (CRA)).

Agency form number: Reg BB.

OMB control number: 7100-0197.

Frequency: Annually.

Reporters: State member banks (SMBs).

Annual reporting hours: 52,127 hours.

Estimated average hours per response: Recordkeeping Requirement, small business and small farm loan register, 219 hours. Optional Recordkeeping Requirements, consumer loan data, 326 hours and other loan data, 25 hours. Reporting Requirements, assessment area delineation, 2 hours; small business and small farm loan data, 8 hours; community development loan data, 13 hours; and Home Mortgage Disclosure Act (HMDA) out of Metropolitan Statistical Areas (MSA) loan data, 253 hours. Optional Reporting Requirements, data on lending by a consortium or third party, 17 hours; affiliate lending data, 38 hours; strategic plan, 275 hours; and request for designation as a wholesale or limited purpose bank, 4 hours. Disclosure Requirement, public file, 10 hours.

Number of respondents: Recordkeeping Requirement, small business and small farm loan register, 72. Optional Recordkeeping Requirements, consumer loan data, 24 and other loan data, 4. Reporting Requirements, assessment area delineation, 72; small business and small farm loan data, 72; community development loan data, 72; and HMDA out of MSA loan data, 72. Optional Reporting Requirements, data on lending by a consortium or third party, 6; affiliate lending data, 4; strategic plan, 1; and request for designation as a wholesale or limited purpose bank, 1. Disclosure Requirement, public file, 803.

General description of report: This information collection is authorized by section 806 of the CRA which permits the board to issue regulations to carry out the purpose of CRA (12 U.S.C. 2905), Section 11 of the Federal Reserve Act (FRA), which permits the Board to require such statements as reports of SMBs as it deems necessary (12 U.S.C. 248(a)(1)), and section 9 of the FRA, which permits the Board to examine SMBs (12 U.S.C. 325). The requirements are generally mandatory, depending on bank size and other factors. The data that are reported to the Federal Reserve are not considered confidential.

Abstract: This submission covers an extension of the Federal Reserve's currently approved information collections in their CRA regulations (12 CFR part 228). The submission involves no change to the regulation or to the information collection. The Federal Reserve System needs the information collected to fulfill their obligations under the CRA to evaluate and assign ratings to the performance of institutions in connection with helping to meet the credit needs of their communities, including low- and moderate-income neighborhoods, consistent with safe and sound banking practices. The Federal Reserve System uses the information in the examination process and in evaluating applications for mergers, branches, and certain other corporate activities. Financial institutions maintain and provide the information to the Federal Reserve System.

Current Actions: On July 21, 2011, the Federal Reserve published a notice in the Federal Register (76 FR 43686) requesting public comment for 60 days on the extension, without revision, of the recordkeeping, reporting and disclosure requirements in connection with Regulation BB. The comment period for this notice expired on September 19, 2011. The Federal Reserve did not receive any comments.

Board of Governors of the Federal Reserve System, October 4, 2011.
Jennifer J. Johnson,
Secretary of the Board.

[FR Doc. 2011-26085 Filed 10-7-11; 8:45 am]

BILLING CODE 6210-01-P